DEPARTMENT OF LABOR

Employment and Training Administration

[TA-W-83,035; TA-W-83,035A; TA-W-83,035B]

Hewlett Packard Company, HP Enterprise Services, America Sales Operations, Omaha, Nebraska; Hewlett Packard Company, Order Management, America Sales Operations, Omaha, Nebraska; Hewlett Packard Company, Technology & Operations, Sales Operations, Ww Sales Transformation, Quote To Order, Quote And Configuration Including Remote Workers From Arkansas, California, Colorado, Florida, Idaho, Massachusetts And Texas And Including Leased Workers From Modis Omaha, Nebraska; Amended Certification Regarding Eligibility To Apply for Worker Adjustment Assistance

In accordance with Section 223 of the Trade Act of 1974, as amended (“Act”), 19 U.S.C. 2273, the Department of Labor issued a Certification of Eligibility to Apply for Worker Adjustment Assistance on September 12, 2013, applicable to workers of Hewlett Packard Company, HP Enterprise Services, America Sales Operations, Omaha, Nebraska (TA-W-83,035). The workers were engaged in activities related to the supply of Order management services and post sales customer activities.

During the course of a subsequent Trade Adjustment Assistance (TAA) investigation, the Department reviewed the certification (TA-W-83,035) for workers of the subject firm and received additional information regarding the aforementioned certification.

The investigation revealed that that workers of Hewlett Packard Company, Order Management, America Sales Operations, Omaha, Nebraska (TA-W-83,035A) and Hewlett Packard Company, Technology & Operations, Sales Operations, WW Sales Transformation, Quote to Order, Quote and Configuration, including remote workers from Arkansas, California, Colorado, Florida, Idaho, Massachusetts, and Texas, including leased workers from Modis, Omaha, Nebraska (TA-W-83,035B) supplied support services to the subject firm and reported to the subject firm.

Based on these findings, the Department is amending this certification (TA-W-83,035) to include the workers of Hewlett Packard Company, Order Management, America Sales Operations, Omaha, Nebraska (TA-W-83,035A) and Hewlett Packard Company, Technology & Operations, Sales Operations, WW Sales Transformation, Quote to Order, Quote and Configuration, including remote workers from Arkansas, California, Colorado, Florida, Idaho, Massachusetts, and Texas, and including leased workers from Modis, Omaha, Nebraska (TA-W-83,035B).

The amended notice applicable to TA-W-83,035 is hereby issued as follows:

All workers of Hewlett Packard Company, HP Enterprise Services, America Sales Operations, Omaha, Nebraska (TA-W-83,035); Hewlett Packard Company, Order Management, America Sales Operations, Omaha, Nebraska (TA-W-83,035A); and Hewlett Packard Company, Technology & Operations, Sales Operations, WW Sales Transformation, Quote to Order, Quote and Configuration, including remote workers from Arkansas, California, Colorado, Florida, Idaho, Massachusetts, and Texas, and including leased workers from Modis, Omaha, Nebraska (TA-W-83,035B), who became totally or partially separated from employment on or after August 28, 2012 through September 12, 2015, and all workers in the group threatened with total or partial separation from employment on the date of certification through two years from the date of certification, are eligible to apply for adjustment assistance under Chapter 2 of Title II of the Trade Act of 1974, as amended.

Signed in Washington, DC, this 23rd day of April, 2015.
Del Min Amy Chen,
Certifying Officer, Office of Trade Adjustment Assistance.

[FR Doc. 2015-12049 Filed 5-18-15; 8:45 am]

BILLING CODE 4510-FN-P